ENVIRONMENTAL PROTECTION AGENCY

40 CFR Part 84

[EPA-HQ-OAR-2025-0005; FRL-12166-03-OAR]

Phasedown of Hydrofluorocarbons: Reconsideration of Certain Regulatory Requirements Promulgated Under the Technology Transitions Provisions of the American Innovation and Manufacturing Act of 2020; Extension of Comment Period

AGENCY: Environmental Protection Agency (EPA).

ACTION: Notice; extension of public comment period.

SUMMARY: On October 3, 2025, the Environmental Protection Agency (EPA) published a proposed rule titled “Phasedown of Hydrofluorocarbons: Reconsideration of Certain Regulatory Requirements Promulgated Under the Technology Transitions Provisions of the American Innovation and Manufacturing Act of 2020.” The EPA is extending the comment period for this proposed rule.

DATES: The comment period for the proposed rule published on October 3, 2025, at 90 FR 47999, is extended. Comments must be received on or before November 21, 2025.

ADDRESSES: You may send your comments, identified by Docket ID No. EPA-HQ-OAR-2025-0005, by any of the following methods:

• Federal eRulemaking Portal: https://www.regulations.gov (our preferred method). Follow the online instructions for submitting comments.

• Email: a-and-r-Docket@epa.gov. Include Docket ID No. EPA-HQ-OAR-2025-0005 in the subject line of the message.

• Mail: U.S. Environmental Protection Agency, EPA Docket Center, Air and Radiation Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday-Friday (except Federal Holidays).

Instructions. Submit your comments, identified by Docket ID No. EPA-HQ-OAR-2025-0005, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. If you choose to submit CBI or PBI as a comment to the EPA's docket, please send those materials to the person listed in the FOR FURTHER INFORMATION CONTACT section. Multimedia submissions (audio, video, etc.) must be accompanied by a written comment. The written comment is considered an official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

FOR FURTHER INFORMATION CONTACT: Allison Cain, Stratospheric Protection Division, Office of Atmospheric Protection (Mail Code 6205A), Environmental Protection Agency, 1200 Pennsylvania Ave. NW, Washington, DC 20460; telephone number: (202) 564-1566; email address: cain.allison@epa.gov. You may also visit the EPA's website at https://www.epa.gov/climate-hfcs-reduction for further information.

SUPPLEMENTARY INFORMATION: On October 3, 2025, the EPA published a proposed rule titled “Phasedown of Hydrofluorocarbons: Reconsideration of Certain Regulatory Requirements Promulgated Under the Technology Transitions Provisions of the American Innovation and Manufacturing Act of 2020” (90 FR 47999). The public comment for this proposed rule was scheduled to end on November 17, 2025. On October 14, 2025, the EPA received a request from a stakeholder for a thirty-day extension of the comment period. This request has been placed in the public docket. EPA is granting an extension and providing four additional days for public comment. The Agency seeks to provide sufficient time for public comment on this proposal while also being mindful of time sensitivity of many aspects of the proposed rule. The comment period for this proposed rule will close on November 21, 2025.

Cynthia Newberg,
Director, Stratospheric Protection Division, Office of Atmospheric Protection.

[FR Doc. 2025-19895 Filed 11-13-25; 8:45 am]

BILLING CODE 6560-50-P